DEPARTMENT OF EDUCATION

Office of Special Education and Rehabilitative Services; Overview Information; Personnel Development To Improve Services and Results for Children With Disabilities—Leadership Preparation in Sensory Disabilities; Notice Inviting Applications for New Awards for Fiscal Year (FY) 2009

Catalog of Federal Domestic Assistance (CFDA) Number: 84.325V.

DATES: Applications Available: July 23, 2009.

Deadline for Transmittal of Applications: August 24, 2009.

Deadline for Intergovernmental Review: September 1, 2009.

Full Text of Announcement

I. Funding Opportunity Description

Purpose of Program: The purposes of this program are to (1) help address State-identified needs for highly qualified personnel—in special education, related services, early intervention, and regular education—to work with infants, toddlers, and children with disabilities; and (2) ensure that those personnel have the necessary skills and knowledge, derived from practices that have been determined through scientifically based research and experience, to be successful in serving those children.

Priority: In accordance with 34 CFR 75.105(b)(2)(v), this priority is from allowable activities specified in the statute or otherwise authorized in the statute (see sections 662 and 681 of the Individuals with Disabilities Education Act (IDEA) (20 U.S.C. 1400 et seq.)).

Absolute Priority: For FY 2009 and any subsequent year in which we make awards based on the list of unfunded applicants from this competition, this priority is an absolute priority. Under 34 CFR 75.105(c)(3) we consider only applications that meet this priority.

This priority is:

Personnel Development to Improve Services and Results for Children with Disabilities—Leadership Preparation in Sensory Disabilities (84.325V).

Background: During the ten-year period between 1996 and 2006 there was little change in the number of doctorates awarded annually in special education. The numbers ranged from a high of 288 doctorates awarded in 2004 to a low of 213 doctorates awarded in 2002; 237 doctorates were awarded in special education in 2006, the most recent year reported (Hoffer, Hess, Welch, & Williams, 2007). As a general matter, this number of doctoral graduates is insufficient to fill current and anticipated future vacancies for special education faculty at institutions of higher education (IHEs), special education teachers, and special education leaders at State and local public agencies. (Smith, Pion, & Tyler, 2004; Smith, Pion, Tyler, Sindelar, & Rosenberg, 2001; Wasburn-Moses & Therrien, 2008).

The lack of doctoral graduates in special education is even more acute in the area of sensory disabilities (e.g., deaf and hard-of-hearing, visual impairments and blindness, and deaf-blindness). These specialties have an immediate and critical need for doctoral-level personnel (Dilka, Haydon, & Mertens, 2007; Huebner, Merk-Adam, Stryker, & Wolfe, 2004; Johnson, 2003). “The Study of Special Education Leadership Personnel: With Particular Attention to the Professoriate” (Smith, Pion, Tyler, Sindelar, & Rosenberg, 2001) reports that one-third of higher education faculty positions available in special education go unfilled every year, including many in sensory disability areas. For doctoral training programs in sensory disabilities that have only one full-time faculty on staff, the inability to fill a vacant position often results in the termination of the program. Because doctoral-level faculty also provide training for teachers and related services providers (e.g., orientation and mobility training) who work with children with sensory disabilities, faculty shortages at IHEs mean that there are fewer resources to train critical direct service staff.

In 2004, the Office of Special Education Programs (OSEP) awarded a five-year cooperative agreement for the establishment of a National Center on Leadership in Visual Impairment (NCLVI) to address the ongoing shortage of doctoral-level leaders in the field of visual impairment and blindness. The 14 universities participating in the NCLVI each offer doctoral degrees with an emphasis on doctoral leadership training in the areas of visual impairment, blindness, or deaf-blindness. The NCLVI, with OSEP input, established the terms of the student awards, offering full tuition awards and a stipend for living expenses for a maximum of four years to offset additional costs related to full-time studies and general living expenses. Scholars were required to be full-time so as to ensure that they completed their doctoral studies as expeditiously as possible to address the immediate and critical need for doctoral professionals in the field.

According to a recently published National Center of Education Statistics (NCES) report, “The Condition of Education 2007,” the 2003-04 average annual costs for a doctorate in education were $10,700 for tuition and $17,200 for living expenses, for a total of $27,900. According to NCES, the 2003-2004 average annual costs for all other Ph.D. programs, excluding those in education, totaled $33,600, including an average annual tuition amount of $14,900 and living expenses of approximately $18,700. Without adjusting for inflation, the comparable average NCLVI annual tuition amount for 2007-08 was $10,673, and the average stipend was $20,535, for a total average NCLVI annual award of $31,208. Thus, based on the most recent NCES data available, with no adjustments for inflation, the average costs for tuition and living expenses for NCLVI program fellows are slightly above the average annual costs for doctoral programs in education and slightly below the average annual costs for all other doctoral programs.

Of the 19 NCLVI scholars, six completed their doctoral degrees in their third year of enrollment, three completed in their fourth year, and NCLVI faculty report that the remaining ten students are on schedule to complete their doctorates in their fourth year of enrollment. Assuming that these projections are accurate, the NCLVI average completion time is shorter than the national median time to completion of 7.9 years for Ph.D.s, Ed.D.s, and D.Sc.s. (Hoffer, Hess, Welch, & Williams, 2007). NCLVI graduates have also successfully secured positions in the field of visual impairment.¹

¹ The students who completed their doctorates found employment in leadership positions in the field of visual impairment, including five in university faculty positions. One graduate secured a highly competitive two-year post-doctoral internship at the Centers for Disease Control, and the three most recent graduates are actively interviewing for positions in IHEs, SEAs and research organizations.

The consortium design and curriculum used by NCLVI have facilitated the pooling of resources and expertise to provide high-quality training opportunities for NCLVI scholars, including structured research and learning opportunities that extend beyond those available at any of the individual NCLVI partner institutions. NCLVI students have the additional benefit of interacting with professionals and other students outside their home universities.

This priority builds on OSEP's previous investment in a consortium model that is focused on the preparation of doctoral leaders in visual impairment and blindness.

Priority: The purpose of this priority is to fund a consortium (Consortium) that will prepare leaders at the doctoral level to work in the special education field with a specialty in the following sensory disabilities: (1) Visual impairment and blindness; (2) deaf-blindness; and (3) deafness and hard-of-hearing.

To be considered for funding under this absolute priority, applicants must meet the application requirements contained in this priority. All projects funded under this absolute priority also must meet the programmatic and administrative requirements specified in the priority.

All scholars receiving support through this project must satisfy the service obligation requirement in 34 CFR Part 304, which requires 2 years of work for every year of scholarship support. The service obligation requirement, however, does not create an incentive for scholars to obtain employment in postsecondary institutions, which is one of the main objectives of this priority, over other kinds of employment. Thus, the service obligation may indirectly be deterring doctoral-level graduates under this project from seeking and obtaining employment as higher education faculty in postsecondary institutions with low incidence training programs. As a result, under the authority of section 662(h)(2) of IDEA, which authorizes the Secretary to reduce or waive the service obligation in this situation, the Secretary has determined that scholars who complete doctoral-level degrees under this project and go on to obtain employment as higher education faculty at postsecondary institutions in the area for which they received training will only be required to complete 1 year of work for every year of scholarship support instead of 2 years of work for every year of scholarship support.

Application Requirements. An applicant must include in its application—

(a) A logic model that depicts, at a minimum, the goals, activities, outputs, and outcomes of the proposed project. A logic model communicates how a project will achieve its outcome and provides a framework for both the formative and summative evaluations of the project;

Note: The following Web site provides more information on logic models and lists multiple on-line resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget that ensures that at least 70 percent of the total requested budget is used for student support, with a minimum of 30 full-time students to be supported;

(e) A budget for a summative evaluation to be conducted by an independent third party;

(f) A budget for attendance at the following:

(1) A one-and-one-half-day kick-off meeting to be held in Washington, DC, within four weeks after receipt of the award, and an annual planning meeting held in Washington, DC, with the OSEP Project Officer during each subsequent year of the project period.

(2) A three-day Project Director's Conference in Washington, DC, during each year of the project period.

(3) Three two-day trips annually to attend Department briefings, Department-sponsored conferences, and other meetings, as requested by OSEP; and

(g) A line item in the proposed budget for an annual set-aside of five percent of the grant amount to support emerging needs that are consistent with the proposed project's activities, as those needs are identified in consultation with OSEP.

Note: With approval from the OSEP Project Officer, the Consortium must reallocate any remaining funds from this annual set-aside no later than the end of the third quarter of each budget period.

Project Activities. To meet the requirements of this priority, the project, at a minimum, must conduct the following activities:

(a) Establish a Consortium comprised of IHEs that prepares students to work as doctoral leaders in all of the following sensory disability areas: Visual impairment and blindness, deaf-blindness, and deafness and hard-of-hearing. The project must include at least two established IHE programs in each of the sensory disability areas. The application must include the following information from each proposed Consortium member: The name of the IHE, the specific sensory disability program or programs at each IHE, and a letter of commitment from each IHE. OSEP will approve the Consortium members within eight weeks after making the award.

(b) Establish policies and procedures for the work of the Consortium in areas such as: Decision-making, recruitment, and selection of students who will be supported by the Consortium, distribution of tuition and stipends among participating students, measurement and reporting of student progress, and contingency planning in case of Consortium faculty losses. The Consortium must create standard guidelines for awarding tuition and stipends to all Consortium-supported students and must submit those proposed guidelines to the OSEP project officer for approval prior to their implementation.

(c) Develop and implement a single, common research-based curriculum for all Consortium students that aligns with each IHE Consortium member's course of study and that reflects scientifically based practices in course syllabi.

(d) Maintain a Web site that meets government or industry-recognized standards for accessibility and that links to the Web site operated by the Technical Assistance Coordination Center (TACC).

(e) Establish and maintain an advisory committee to review the activities and outcomes of the Consortium and to provide programmatic support and advice throughout the project period. At a minimum, the advisory committee must meet on an annual basis in Washington, DC, and consist of at least one representative from each of the following:

(1) Organizations, agencies, and associations that represent the interests of persons with sensory disabilities, specifically the disability areas addressed by the Consortium.

(2) Persons with sensory disabilities.

(3) Professional organizations representing the interests and work of faculty and administrators of IHEs; and

(4) Students enrolled in Consortium-member universities' sensory disabilities doctoral leadership preparation programs. The Consortium must submit the names of proposed advisory committee members to OSEP for approval within eight weeks after receipt of the award.

(f) Communicate and collaborate, on an ongoing basis, with other OSEP-funded projects, and the Technical Assistance and Dissemination (TA&D) Network Centers. This collaboration could include the joint development and implementation of curriculum activities, accessing and using research-based strategies and promising practices that are disseminated by personnel preparation centers and TA&D Network Centers, and planning and carrying out joint meetings and events with other OSEP-funded projects.

(g) Maintain ongoing communication with the OSEP Project Officer through monthly phone conversations with the grantee and Consortium members and e-mail communication.

Fourth and Fifth Years of the Project: In deciding whether to continue funding the Consortium for the fourth and fifth years, the Secretary will consider the requirements of 34 CFR 75.253(a), and in addition—

(a) The recommendation of a review team consisting of experts selected by the Secretary. This review will be conducted during a one-day intensive meeting in Washington, DC, that will be held during the last half of the second year of the project period. The Consortium must budget for travel expenses associated with this one-day intensive review;

(b) The timeliness and effectiveness with which all requirements of the negotiated cooperative agreement have been or are being met by the Consortium; and

(c) The quality, relevance, and usefulness of the Consortium's activities and products and the degree to which the Consortium's activities will contribute to increasing the supply of doctoral leadership personnel in visual impairment and blindness, deaf-blindness, and deafness and hard-of-hearing.

References

Dilka, K., Haydon, D., & Mertens, D. M. (2007). Program faculty demographics of deaf and hard of hearing teacher preparation programs. Paper presented at the Association of College Educators-Dear Hard-of-Hearing.

Hoffer, T.B., Hess, M., Welch, V. Jr., & Williams, K. (2007). Doctorate recipients from United States universities: Summary report 2006. Chicago: National Opinion Research Center.

Huebner, M. K., Merk-Adam, B., Stryker, D., & Wolfe, K. E. (2004). The national agenda for the education of children and youths with visual impairments, including those with multiple disabilities—revised. New York: American Foundation for the Blind.

Johnson, H.A. (2003). U.S. deaf education teacher preparation programs: A look at the present and a vision for the future (COPSSE Document No. IB-9). Gainesville, FL: University of Florida, Center of Personnel Studies in Special Education.

National Center for Education Statistics: (2007). The condition of education 2007 (ED-NCES 2007-064). Washington, DC: U.S. Government Printing Office.

Sindelar (Eds.), Critical Issues in Special Education: Access, Diversity, and Accountability (pp. 258-276). New York: Pearson Allyn and Bacon.

Smith, D.S., Pion, G., Tyler, N.C., Sindelar, P., & Rosenberg, M. (2001). The study of special education leadership personnel: With particular attention to the professoriate. Vanderbilt University, Nashville, TN, University of Florida at Gainesville, Gainesville, FL, and Johns Hopkins University, Baltimore, MD.

Smith, D.D., Pion, G.M., Tyler, N.C. (2004) Leadership personnel in special education: Can persistent shortage be resolved? In A. McCray Sorrells, H.J. Rieth, & P.T.

Smith, D.D. (March, 2009). Special Education Faculty Needs Assessment Brief: A comparison of doctoral funding levels across Federal programs. Claremont Graduate University: Claremont, CA.

Wasburn-Moses, L. & Therrien, W.J. (2008). The impact of Leadership Personnel Grants on the doctoral student population in special education. Teacher Education in Special Education. 31(2), 65-76.

Waiver of Proposed Rulemaking: Under the Administrative Procedure Act (APA) (5 U.S.C. 553) the Department generally offers interested parties the opportunity to comment on proposed priorities and requirements. Section 681(d) of the IDEA, however, makes the public comment requirements of the APA inapplicable to the priorities in this notice.

Program Authority: 20 U.S.C. 1462 and 1481.

Applicable Regulations: (a) The Education Department General Administrative Regulations (EDGAR) in 34 CFR parts 74, 75, 77, 79, 80, 81, 82, 84, 85, 86, 97, 98, and 99. (b) The regulations for this program in 34 CFR part 304.

Note: The regulations in 34 CFR part 79 apply to all applicants except federally recognized Indian tribes.

II. Award Information

Type of Awards: Cooperative agreements.

Estimated Available Funds: $1,000,000.

Contingent upon the availability of funds and the quality of applications, we may make additional awards in FY 2010 from the list of unfunded applicants from this competition.

Estimated Average Size of Awards: $1,000,000.

Maximum Award: We will reject any application that proposes a budget exceeding $1,000,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: IHEs.

2. Cost Sharing or Matching: This program does not require cost sharing or matching.

3. Other: General Requirements—(a) The projects funded under this competition must make positive efforts to employ and advance in employment qualified individuals with disabilities (see section 606 of the IDEA).

(b) Applicants and grant recipients funded under this competition must involve individuals with disabilities or parents of individuals with disabilities ages birth through 26 in planning, implementing, and evaluating the project (see section 682(a)(1)(A) of the IDEA).

IV. Application and Submission Information

1. Address to Request Application Package: Education Publications Center (ED Pubs), P.O. Box 1398, Jessup, MD 20794-1398. Telephone, toll free: 1-877-433-7827. Fax: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify the competition as follows: CFDA number 84.325V.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if you exceed the page limit; or if you apply other standards and exceed the equivalent of the page limit.

3. Submission Dates and Times:

Applications Available: July 23, 2009.

Deadline for Transmittal of Applications: August 24, 2009.

Applications for grants under this competition may be submitted electronically using the Electronic Grant Application System (e-Application) accessible through the Department's e-Grants system, or in paper format by mail or hand delivery. For information (including dates and times) about how to submit your application electronically, or by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 1, 2009.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application, accessible through the Department's e-Grants portal page at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6 a.m. Monday until 7 p.m. Wednesday; and 6 a.m. Thursday until 8 p.m. Sunday, Washington, DC time. Please note that, because of maintenance, the system is unavailable between 8 p.m. on Sundays and 6 a.m. on Mondays, and between 7 p.m. on Wednesdays and 6 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.325V), 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325V), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: In the past, the Department has had difficulty finding peer reviewers for certain competitions, because so many individuals who are eligible to serve as peer reviewers have conflicts of interest. The Standing Panel requirements under the IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities program. These measures include: (1) The percentage of projects that incorporate scientifically based practices into the curriculum; (2) the percentage of scholars who exit training programs prior to completion due to poor academic performance; (3) the percentage of degree or certification recipients who are working in the area(s) for which they were trained upon program completion; (4) the percentage of degree or certification recipients who are working in the area(s) for which they were trained upon program completion and are fully qualified under the IDEA; (5) the percentage of scholars completing the IDEA-funded training programs who are knowledgeable and skilled in scientifically based practices for infants, toddlers, and children with disabilities; (6) the percentage of low incidence positions that are filled by personnel who are fully qualified under the IDEA; and (7) the percentage of program graduates who maintain employment for three or more years in the area(s) for which they were trained.

Grantees may be asked to participate in assessing and providing information on these aspects of program quality.

VII. Agency Contact

FOR FURTHER INFORMATION CONTACT: Glinda Hill, U.S. Department of Education, 400 Maryland Avenue, SW., room 4063, Potomac Center Plaza (PCP), Washington, DC 20202-2550. Telephone: (202) 245-7376.

If you use a TDD, call the FRS, toll free, at 1-800-877-8339.

VIII. Other Information

Accessible Format: Individuals with disabilities can obtain this document and a copy of the application package in an accessible format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: July 17, 2009.
Andrew J. Pepin,
Executive Administrator for Special Education and Rehabilitative Services.

[FR Doc. E9-17554 Filed 7-22-09; 8:45 am]

BILLING CODE 4000-01-P